ENVIRONMENTAL PROTECTION AGENCY

[EPA-HQ-OW-2011-0439; EPA-HQ-OW-2011-0442; EPA-HQ-OW-2011-0443; FRL 9129-01-OW]

Proposed Information Collection Requests; Comment Request: Disinfectants/Disinfection Byproducts, Chemical and Radionuclides Rules, Microbial Rules, and Public Water System Supervision Program Renewal Information Collection Requests

AGENCY: Environmental Protection Agency (EPA).

ACTION: Notice.

SUMMARY: The U.S. Environmental Protection Agency (EPA) is planning to submit the following information collection requests (ICRs) to the Office of Management and Budget (OMB) for review and approval in accordance with the Paperwork Reduction Act (PRA) for the: Microbial Rules ICR, OMB Control No. 2040-0205; the Public Water System Supervision (PWSS) Program ICR, OMB Control No. 2040-0090; and the Disinfectants/Disinfection Byproducts, Chemical and Radionuclides (DBPCR) Rules, OMB Control No. 2040-0204. Before doing so, EPA is soliciting public comments on specific aspects of the proposed information collection as described in this document. This is a proposed extension of the Microbial ICR, which is currently approved through July 31, 2022; the PWSS Program ICR and the DBPCR ICR, which are both currently approved through March 31, 2023. These rules are designed to ensure that Americans receive safe drinking water and ensure fair treatment and meaningful involvement of all people regardless of race, color, national origin, or income. An Agency may not conduct, or sponsor and a person is not required to respond to a collection of information unless it displays a currently valid OMB control number.

DATES: Comments must be submitted on or before February 14, 2022.

ADDRESSES: Submit your comments, referencing the Docket ID numbers EPA-HQ-OW-2011-0439 for the DBPCR ICR; EPA-HQ-OW-2011-0442 for the Microbial Rules ICR; EPA-HQ-OW-2011-0443 for the PWSS Program ICR online using https://www.regulations.gov (our preferred method), by email OW-Docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

FOR FURTHER INFORMATION CONTACT: Kevin Roland, Drinking Water Protection Division, Office of Ground Water and Drinking Water, (4606M), Environmental Protection Agency, 1200 Pennsylvania Ave. NW, Washington, DC 20460; telephone number: 202-564-4588: fax number: 202-564-3755; email address: roland.kevin@epa.gov.

SUPPLEMENTARY INFORMATION: Supporting documents which explain in detail the information that the EPA will be collecting are available in the public dockets for these ICRs (see the ADDRESSES section of this document for Docket ID numbers for each ICR). The dockets can be viewed online at https://www.regulations.gov or in person at the EPA Docket Center, WJC West, Room 3334, 1301 Constitution Ave. NW, Washington, DC. The telephone number for the Docket Center is 202-566-1744. For additional information about the EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICRs as appropriate. The final ICR packages will then be submitted to OMB for review and approval. At that time, the EPA will issue another Federal Register notice to announce the submission of the ICRs to OMB and the opportunity to submit additional comments to OMB. To support the data collection and program implementation in the rules and activities listed below, EPA is currently modernizing the Safe Drinking Water Information System (SDWIS). EPA is designing the modernized SDWIS in coordination with state drinking water and information technology programs, which will house monitoring data and other compliance information in a system centrally hosted by EPA and accessed by participating state primacy programs. This central data system can facilitate the transfer of additional data between states and EPA where needed to improve program oversight to protect public health. EPA will continue to work with its primacy partners on SDWIS modernization.

Microbial Rules (EPA ICR No. 1895.10, Docket No. EPA-HQ-OW-2011-0442)

Abstract: The Microbial Rules ICR examines public water system and primacy agency burden and costs for recordkeeping and reporting requirements in support of the microbial drinking water regulations. These recordkeeping and reporting requirements are mandatory for compliance with 40 CFR parts 141 and 142. The following microbial regulations are included: The Surface Water Treatment Rule (SWTR), the Total Coliform Rule (TCR), the Revised Total Coliform Rule (RTCR), the Interim Enhanced Surface Water Treatment Rule (IESWTR), the Filter Backwash Recycling Rule (FBRR), the Long Term 1 Enhanced Surface Water Treatment Rule (LT1ESWTR), the Long Term 2 Enhanced Surface Water Treatment Rule (LT2ESWTR), the Ground Water Rule (GWR), and the Aircraft Drinking Water Rule (ADWR). Future microbial-related rulemakings will be added to this consolidated ICR after the regulations are promulgated and the initial, rule-specific, ICRs are due to expire.

Form Numbers: None.

Respondents/affected entities: Entities potentially affected by this action are public water systems and primacy agencies.

Respondent's obligation to respond: Mandatory for compliance with 40 CFR parts 141 and 142.

Estimated number of respondents: 146,808 (total).

Frequency of response: Varies by requirement (i.e., on occasion, monthly, quarterly, semi-annually, and annually).

Total estimated burden: 18,127,581 hours (per year). Burden is defined at 5 CFR 1320.03(b).

Total estimated cost: $972,102,000 (per year), includes $228,972,000 annualized capital or operation & maintenance costs.

Changes in Estimates: There is no estimated increase or decrease of hours in the total estimated respondent burden compared to what was identified in the ICR currently approved by OMB.

Public Water System Supervision Program (EPA ICR No. 0270.47, EPA-HQ-OW-2011-0443)

Abstract: The Public Water System Supervision (PWSS) Program ICR examines public water systems, primacy agencies (i.e., states and tribes with primary enforcement authority) and tribal operator certification provider burden, and costs for “cross-cutting” recordkeeping and reporting requirements (i.e., the burden and costs for complying with drinking water information requirements that are not associated with contaminant-specific rulemakings). EPA intends to collect information and data as part of the agency's oversight of state primacy programs and national SDWA implementation. The following activities have recordkeeping and reporting requirements that are mandatory for compliance with the Code of Federal Regulations (CFR) at 40 CFR parts 141 and 142: The Consumer Confidence Report Rule (CCR), the Variance and Exemption Rule (V/E Rule), General State Primacy Activities, the Public Notification Rule (PN), and Proficiency Testing Studies for Drinking Water Laboratories. The information collection activities for both the Operator Certification and the Capacity Development Program are driven by the grant withholding and reporting provisions under sections 1419 and 1420, respectively, of the Safe Drinking Water Act. The information collection for the Tribal Operator Certification Program is driven by grant eligibility requirements outlined in the Drinking Water Infrastructure Grant Tribal Set-Aside Program Final Guidelines and the Tribal Drinking Water Operator Certification Program Guidelines.

Form Numbers: None.

Respondents/affected entities: Entities potentially affected by this action are new and existing public water systems and primacy agencies.

Respondent's obligation to respond: Mandatory for compliance with 40 CFR parts 141 and 142.

Estimated number of respondents: 148,674 (total).

Frequency of response: Varies by requirement (i.e., on occasion, monthly, quarterly, semi-annually and annually).

Total estimated burden: 3,643,372 hours (per year). Burden is defined at 5 CFR 1320.03(b).

Total estimated cost: $192,654,000 (per year), includes $38,121,000 in operation and maintenance costs.

Changes in Estimates: There is an expected decrease of hours in the total estimated respondent burden compared to what was identified in the ICR currently approved by OMB, due to use of centralized software for data entry and rule compliance calculations. The updated, estimated burden will be incorporated into a revised supporting statement (which will be available in the docket) and in a second Federal Register notice (for public comment) at a later date, to be determined, before the ICR package is sent to OMB for approval.

The Disinfectants/Disinfection Byproducts, Chemical and Radionuclides Rules (EPA ICR No. 1896.11, EPA-HQ-OW-2011-0439)

Abstract: The Disinfectants/Disinfection Byproducts, Chemical, and Radionuclides Rules ICR examines public water system and primacy agency burden and costs for recordkeeping and reporting requirements in support of the Disinfectants/Disinfection Byproducts, Chemical and Radionuclides Rules. These recordkeeping and reporting requirements are mandatory for compliance with 40 CFR parts 141 and 142. The following regulations are included: The Stage 1 Disinfectants and Disinfection Byproducts Rule (Stage 1 DBPR), the Stage 2 Disinfectants and Disinfection Byproducts Rule (Stage 2 DBPR), the Chemical Phase Rules (Phases II/IIB/V), the Radionuclides Rule, Disinfectant Residual Monitoring and Associated Activities under the Surface Water Treatment Rule (SWTR),¹ the Arsenic Rule and the Lead and Copper Rule (LCR), including the Lead and Copper Rule Short Term Revisions.

¹ Includes only SWTR components relating to disinfectant residual monitoring and associated activities. All remaining SWTR requirements are included in the Microbial Rules ICR.

Future microbial-related rulemakings will be added to this consolidated ICR after the regulations are promulgated and the initial, rule-specific, ICRs are due to expire.

Form Numbers: None.

Respondents/affected entities: Entities potentially affected by this action are public water systems and primacy agencies.

Respondent's obligation to respond: Mandatory for compliance with 40 CFR parts 141 and 142.

Estimated number of respondents: 146,772 (total).

Frequency of response: Varies by requirement (i.e., on occasion, monthly, quarterly, semi-annually, and annually).

Total estimated burden: 5,161,356 hours (per year). Burden is defined at 5 CFR 1320.03(b).

Total estimated cost: $455,885,000 (per year), which includes $252,952,000 annualized capital or operation & maintenance costs.

Changes in Estimates: There is no estimated increase or decrease of hours in the total estimated respondent burden compared to what was identified in the ICR currently approved by OMB.

Jennifer L. McLain,
Director, Office of Ground Water and Drinking Water.

[FR Doc. 2021-27097 Filed 12-14-21; 8:45 am]

BILLING CODE 6560-50-P